DEPARTMENT OF COMMERCE

International Trade Administration

[A-570-848]

Freshwater Crawfish Tail Meat From the People's Republic of China: Notice of Postponement of Time Limits for New Shipper Antidumping Duty Reviews in Conjunction With Administrative Review

AGENCY: Import Administration, International Trade Administration, Department of Commerce.

SUMMARY: On February 16, 2006, and February 21, 2006, in accordance with 19 CFR 351.214(j)(3), Xuzhou Jinjiang Foodstuffs Co., Ltd. (“Jinjiang”) and Xiping Opeck Food Co. Ltd. (“Opeck”), respectively, agreed to waive the time limits in section 351.214(i) of the Department of Commerce's (“the Department”) regulations so that the Department may conduct the new shipper reviews of freshwater crawfish tail meat from the People's Republic of China (“PRC”), for the period September 1, 2004, through August 31, 2005, concurrently with the administrative review for the same period. Therefore, pursuant to Opeck and Jinjiang's requests and in accordance with the Department's regulations, we will conduct the administrative and new shipper reviews concurrently. The deadline for the preliminary results for the new shipper reviews, originally scheduled for May 1, 2006, will now be June 2, 2006, and the estimated deadline for the finals results will now be September 30, 2006.

EFFECTIVE DATE: March 20, 2006.

FOR FURTHER INFORMATION CONTACT: Scot Fullerton or Erin Begnal, AD/CVD Operations, Import Administration, International Trade Administration, U.S. Department of Commerce, 14th Street and Constitution Avenue, NW, Washington, D.C. 20230; telephone: (202) 482-1386 or (202) 482-1442, respectively.

SUPPLEMENTARY INFORMATION:

Background

On September 30, 2005, and September 21, 2005, the Department received timely requests from Opeck and Jinjiang, respectively, to conduct new shipper reviews of the antidumping duty order on freshwater crawfish tail meat from the PRC. On November 4, 2005, the Department initiated these new shipper antidumping duty reviews covering the period September 1, 2004, through August 31, 2005. See Freshwater Crawfish Tail Meat from the People's Republic of China: Initiation of New Shipper Antidumping Duty Reviews, 70 FR 67138 (November 4, 2005). On September 30, 2005, the petitioners, the Crawfish Processors Alliance, requested an administrative review of several companies. On October 25, 2005, the Department published in the Federal Register a notice announcing the initiation of the 2004-2005 administrative review of the antidumping duty order on freshwater crawfish tail meat from the People's Republic of China (“PRC”). See Notice of Initiation of Antidumping and Countervailing Duty Administrative Reviews, 70 FR 61601 (October 25, 2005).

Postponement of New Shipper Review

On February 16, 2006, and February 21, 2006, Jinjiang and Opeck, respectively, in accordance with section 351.214(j)(3) of the Department's regulations, agreed to waive the applicable time limits for these new shipper reviews so that the Department might conduct these new shipper reviews concurrently with the 2004/2005 administrative review of freshwater crawfish tail meat from the PRC. See letter from Jinjiang requesting alignment with administrative review (February 16, 2006); letter from Opeck requesting alignment with administrative review (February 21, 2006). Pursuant to Opeck and Jinjiang's requests, and in accordance with section 351.214(j)(3) of the Department's regulations, we will conduct this new shipper review concurrently with the September 1, 2004, through August 31, 2005, administrative review of freshwater crawfish tail meat from the PRC. Therefore, the preliminary results of the antidumping new shipper review, as well as the administrative review, will be due 245 days from the last day of the administrative review period, i.e., June 2, 2006. See section 351.213(h) of the Department's regulations. The estimated deadline for the final results in these new shipper reviews as well as the administrative review is September 30, 2006.

This notice is published in accordance with section 751(a)(2)(B) of the Tariff Act of 1930, as amended, and 19 CFR 351.214(j)(3).

Dated: March 14, 2006.
Stephen J. Claeys,
Deputy Assistant Secretary for Import Administration.

[FR Doc. E6-3987 Filed 3-17-06; 8:45 am]

BILLING CODE 3510-DS-S